DEPARTMENT OF STATE

[Public Notice 3975]

Bureau of Educational and Cultural Affairs Request for Grant Proposals: Three Curriculum Development Projects for Armenia-Civic Education, Pre-Service Education and School Administrator Training

SUMMARY: The Office of Global Educational Programs of the Bureau of Educational and Cultural Affairs in the Department of State announces an open competition for an assistance award to support planning, implementing and evaluating up to three education projects for Armenia: (1) High school civic education curriculum development; (2) curriculum development at pre-service pedagogical institutes in Armenia; and (3) curriculum development and leadership training for Armenian school directors. Organizations meeting the provisions described in IRS regulation 26 CFR 1.501(c) may submit proposals to undertake one or more of these projects.

Overview and Project Objectives

Program Information

Overview: These projects are designed to assist Armenian educators to develop curricular materials in civic education at the high school level and to assist in training teachers and teacher trainers to use these materials in classrooms in Armenia; to develop and provide leadership training materials for Armenian school principals; and to assist pedagogical institutes in Armenia to develop courses for improvement of pre-service teacher training. The rationale for these projects is that improving civic education, educational leadership, and teaching practices in Armenia will better prepare students, teachers and school administrators to participate more actively in Armenia's emerging democratic society. Projects should promote productive relationships among members of the school community, including students, teachers, school administrators and parents, while training teachers to support these relationships.

Project Objectives

Applicants may submit proposals focusing on one, two, or all three of the projects. In the high school civic education project, proposals should emphasize curriculum design and faculty training in civic education for the eighth and ninth grade levels. In the educational leadership project, proposals should emphasize the development of training materials to improve the educational leadership skills of school directors. In the pre-service teacher education curriculum development project, proposals should outline a practical strategy to assist pedagogical institutes to develop new curricula and instructional materials for the training of pre-service teachers. Each project will include the following three phases of activity: recruiting and selecting Armenian participants; coordinating U.S. based training workshops; and testing and publishing the training or curricular materials. (Full details for each project phase are contained in the POGI).

Selection of Topics

For all three projects, applicants should suggest in their proposals the process for selecting the specific topics to be developed by the Armenian participants. Final determination of appropriate topics will be made in consultation with Armenian project participants before the start of U.S. based curriculum development and training workshops. Proposals should include a detailed plan for collaboration with the local Armenian partner organizations. (Please see the POGI for information on Armenian partner organizations available as project partners. Grantees may propose other partners than the ones listed. The proposal should provide justification for a recommendation of any partner not listed.) The Armenian partner organizations should be actively engaged with the U.S. grantee organization during the planning phase of project activities and implementation of project activities.

Guidelines

Project Planning and Implementation

Grant Duration

Grant activities should begin on or around September 1, 2002 and should last approximately thirty-six months. Grantees proposing to administer more than one project may suggest an individual project start date for each project as long as all project activities are completed within the approved grant period.

Planning

In Phase I of each project the U.S. grantee organization will collaborate with the Armenian partner organization(s) to coordinate recruitment and selection of Armenian educators to serve on curriculum development teams; and conduct planning trips to Yerevan for initial consultations. Planning trips should not exceed two weeks in length.

During the planning stage the grantee organization should consult with representatives of the Armenian Ministry of Education to negotiate, if possible, the following assistance to all Armenian participants: 1) Paid leave time for the Armenian participants during their stays in the U.S. and during any subsequent training work in Armenia; 2) Facilitation of the logistics of training sessions to be conducted in Armenia through appropriate signed agreements.

Project Implementation

In Phase II of each project, members of the curriculum development and training teams will spend approximately 6-12 weeks in the U.S. attending workshops organized by the U.S. grantees; observing relevant aspects of the U.S. educational system; and drafting curriculum or training materials in consultation with the U.S. specialists. The grantee organization will develop workshops which meet the needs of the Armenian participants through activities designed to introduce the Armenian teams to U.S. education specialists with appropriate expertise in civic education, pre-service teacher training, or educational leadership. Applicants should develop a timetable which incorporates significant time for writing curricular materials. Workshops should include field experiences which are relevant to the materials being produced (such as visits to schools, consultations with U.S. teachers or school principals, and mentored attendance at professional meetings).

In Phase III of each project, the grantee organization and the local Armenian partner(s) should plan and implement a program for testing, revising and publishing the materials developed in Phase II. Phase III project activities should emphasize outreach and training of local educators by the Armenian participants. (Please see the POGI for detailed guidelines for designing and implementing each project phase.)

Visa/Insurance/Tax Requirements

Programs must comply with J-1 visa regulations and the grantee organization will need to have authority to provide J-1 visa sponsorship by the time grant activities begin. Please refer to Solicitation Package for further information. Administration of the project must be in compliance with reporting and withholding regulations for federal, state, and local taxes as applicable. Recipient organizations should demonstrate tax regulation adherence in the proposal narrative and budget.

Budget Guidelines

Applicants may submit a budget up to $250,000 for projects focusing on civic education curriculum development; $250,000 for pre-service teacher training curriculum development; $150,000 for projects focusing on educational leadership curriculum development or a budget of up to $650,000 for projects focusing on all three-project components. Requests for amount smaller than the maximum are eligible. The Bureau anticipates awarding up to three grants in a total amount not to exceed $650,000, to support program and administrative costs required to implement these projects. Proposals to administer more than one of these projects should reflect economies of scale in the administrative budget. The Bureau encourages applicants to provide maximum levels of cost sharing and funding from private sources in support of its programs. Bureau grant guidelines require that organizations with less than four years experience in conducting international exchanges are limited to $60,000 in Bureau funding. Therefore organizations with less than four years of experience in conducting international exchanges are ineligible to apply under this competition. Applicants must submit a comprehensive budget for the entire program. There must be a summary budget as well as breakdowns reflecting both administrative and program budgets. Applicants may provide separate sub-budgets for each program component, phase, location, or activity to provide clarification. The summary and detailed project and administrative budgets should be accompanied by a narrative, which provides justification for the amount needed.

Allowable costs for the program include the following:

(1) Administrative costs, including salaries and benefits, of grantee organization.

(2) Program costs, including general program costs and program costs for each participant from Armenia in the U.S. based curriculum development and training seminars and the Armenia-based pilot-testing activities. Please refer to the POGI for complete budget guidelines and formatting instructions.

Announcement Title and Number: All correspondence with the Bureau concerning this RFGP should reference the above title and number ECA/A/S/U-02-09.

FOR FURTHER INFORMATION, CONTACT: The Humphrey Fellowships and Institutional Linkages Branch, Office of Global Educational Programs, U.S. Department of State, 301 4th Street, SW., Washington, DC 20547, telephone: 202-619-5289; Fax: 202-401-1433; or mwestbro@pd.state.gov, to request a solicitation package.

The Solicitation Package contains detailed award criteria, required application forms, specific budget instructions, and standard guidelines for proposal preparation. Please specify Bureau Program Officer Marie W. Grant on all other inquiries and correspondence.

Please read the complete Federal Register announcement before sending inquiries or submitting proposals. Once the RFGP deadline has passed, Bureau staff may not discuss this competition with applicants until the proposal review process has been completed.

To Download a Solicitation Package Via Internet

The entire Solicitation Package may be downloaded from the Bureau's website at http://exchanges.state.gov/education/RFGPs. Please read all information before downloading.

Deadline for Proposals: All proposal copies must be received by the Bureau of Educational and Cultural Affairs by 5 p.m. Washington, DC time on Friday, May 31, 2002. Faxed documents will not be accepted at any time. Documents postmarked the due date but received on a later date will not be accepted. Each applicant must ensure that the proposals are received by the above deadline.

Applicants must follow all instructions in the Solicitation Package. The original and eight copies of the application should be sent to:

U.S. Department of State, SA-44, Bureau of Educational and Cultural Affairs, Ref.: ECA/A/S/U-02-09 Program Management, ECA/EX/PM, Room 534, 301 4th Street, SW., Washington, DC 20547.

Applicants must also submit the “Executive Summary” and “Proposal Narrative” sections of the proposal on a 3.5″ diskette, formatted for DOS. These documents must be provided in ASCII text (DOS) format with a maximum line length of 65 characters. The Bureau will transmit these files electronically to the Public Affairs section at the US Embassy for its review, with the goal of reducing the time it takes to get embassy comments for the Bureau's grants review process.

Diversity, Freedom and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and physical challenges. Applicants are strongly encouraged to adhere to the advancement of this principle both in program administration and in program content. Please refer to the review criteria under the ‘Support for Diversity' section for specific suggestions on incorporating diversity into the total proposal. Public Law 104-319 provides that “in carrying out programs of educational and cultural exchange in countries whose people do not fully enjoy freedom and democracy,” the Bureau “shall take appropriate steps to provide opportunities for participation in such programs to human rights and democracy leaders of such countries.” Public Law 106—113 requires that the governments of the countries described above do not have inappropriate influence in the selection process. Proposals should reflect advancement of these goals in their program contents, to the full extent deemed feasible.

Review Process

The Bureau will acknowledge receipt of all proposals and will review them for technical eligibility. Proposals will be deemed ineligible if they do not fully adhere to the guidelines stated herein and in the Solicitation Package. The program office, as well as the Public Affairs Section overseas, where appropriate will review all eligible proposals. Eligible proposals will be forwarded to panels of Bureau officers for advisory review. Proposals may also be reviewed by the Office of the Legal Adviser or by other Department elements. Final funding decisions are at the discretion of the Department of State's Assistant Secretary for Educational and Cultural Affairs. Final technical authority for assistance awards (grants or cooperative agreements) resides with the Bureau's Grants Officer.

Review Criteria

Technically eligible applications will be competitively reviewed according to the criteria stated below. These criteria are not rank ordered and all carry equal weight in the proposal evaluation:

1. Quality of the program idea: Proposals should exhibit originality, substance, precision, and relevance to the Bureau's mission and responsiveness to the objectives and guidelines stated in this solicitation. Proposals should demonstrate substantive expertise in civic education, educational leadership training and curriculum development.

2. Creativity and feasibility of program plan: A detailed agenda and relevant work plan should demonstrate substantive undertaking, logistical capacity, and a creative utilization of resources and relevant professional development opportunities. The agenda and work plan should be consistent with the program overview and guidelines described in this solicitation.

3. Ability to achieve project objectives: Objectives should be reasonable, feasible, and flexible. Proposals should clearly demonstrate how the institution will meet the program's objectives and plan.

4. Support of Diversity: Proposals should demonstrate substantive support of the Bureau's policy on diversity. Achievable and relevant features should be cited in both program administration (selection of participants, program venue and program evaluation) and program content (orientation and wrap-up sessions, program meetings, resource materials and follow-up activities). The proposal should demonstrate an understanding of the specific diversity needs in Armenia and strategies for addressing these needs in terms of the project goals.

5. Institutional capacity and record: Proposed personnel and institutional resources should be adequate and appropriate to achieve the goals of the project. Proposals should demonstrate an institutional record of successful exchange programs, including responsible fiscal management and full compliance with all reporting requirements for past Bureau grants as determined by the grants staff. The Bureau will consider the past performance of prior recipients and the demonstrated potential of new applicants.

6. Project Evaluation: Proposals should include a plan to evaluate the activity's success, both as the activities unfold and at the end of the program. A draft survey questionnaire or other technique plus description of a methodology to use to link outcomes to original project objectives are recommended. Successful applicants will be expected to submit intermediate program and financial reports after each project component is concluded or quarterly, whichever is less frequent.

7. Follow-on Activities: Proposals should provide a plan for continued follow-on activity (without Bureau support), which ensures that Bureau supported programs are not isolated events.

8. Cost-effectiveness: The overhead and administrative components of the proposal, including salaries and honoraria, should be kept as low as possible. All other items should be necessary and appropriate and should reflect a commitment to pursuing project objectives. Proposals should maximize cost sharing through other private sector support as well as institutional direct funding contributions.

Authority

Overall grant making authority for this program is contained in the Mutual Educational and Cultural Exchange Act of 1961, Public Law 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program above is provided through the Freedom for Russia and Emerging Eurasian Democracies and Open Markets Support Act of 1993 (FREEDOM Support Act). Programs and projects must conform to Bureau requirements and guidelines outlined in the Solicitation Package. Bureau projects and programs are subject to the availability of funds.

Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements.

Notification

Final awards cannot be made until funds have been appropriated by Congress, allocated and committed through internal Bureau procedures.

Dated: April 4, 2002.
Rick A. Ruth,
Principal Deputy Assistant Secretary, Bureau of Educational and Cultural Affairs, Department of State.

[FR Doc. 02-8834 Filed 4-10-02; 8:45 am]

BILLING CODE 4710-05-P